DEPARTMENT OF HEALTH AND HUMAN SERVICES

Food and Drug Administration

[Docket No. FDA-2008-N-0038]

Peripheral and Central Nervous System Drugs Advisory Committee; Notice of Postponement of Meeting

AGENCY: Food and Drug Administration, HHS.

ACTION: Notice.

SUMMARY: The Food and Drug Administration (FDA) is postponing the meeting of the Peripheral and Central Nervous Drugs Advisory Committee scheduled for August 6 and 7, 2008. This meeting was announced in the Federal Register of July 8, 2008 (73 FR 39017). The postponement is due to difficulties in empanelling the necessary experts due to both scheduling conflicts and conflict-of-interest issues.

FOR FURTHER INFORMATION CONTACT: Diem-Kieu Ngo, Center for Drug Evaluation and Research (HFD-21), Food and Drug Administration, 5600 Fishers Lane, Rockville, MD 20857, 301-827-7001, FAX: 301-827-6776, e-mail: diem.ngo@fda.hhs.gov, or FDA Advisory Committee Information Line, 1-800-741-8138 (301-443-0572 in the Washington, DC area), code 3014512543. Please call the Information Line for up-to-date information on this meeting.

Dated: July 17, 2008.
Randall W. Lutter,
Deputy Commissioner for Policy.

[FR Doc. E8-16814 Filed 7-22-08; 8:45 am]

BILLING CODE 4160-01-S